CORPORATION FOR NATIONAL AND COMMUNITY SERVICE

Proposed Information Collection; Comment Request

AGENCY: Corporation for National and Community Service.

ACTION: Notice.

SUMMARY: The Corporation for National and Community Service (hereinafter the ”Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). Copies of this ICR, with applicable supporting documentation, may be obtained by contacting the Corporation for National and Community Service, Ms. Angela Roberts, at (202) 606-6822, (aroberts@cns.gov); (TTY/TDD) at (202) 606-5256 between the hours of 9:00 a.m. and 4:00 p.m. Eastern Time, Monday through Friday.

DATES: Comments may be submitted, identified by the title of the information collection activity, by any of the following two methods listed in the address section, within 30 days from the publication in Federal Register.

ADDRESSES: You may submit comments, identified by the title of the information collection activity, by any of the following methods:

(1) By fax to: (202) 395-6964, Attention: Ms. Katherine Astrich, OMB Desk Officer for the Corporation for National and Community Service; and Electronically by e-mail to: Katherine_T._Astrich@omb.eop.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Comments

A 60-day public comment Notice, regarding modification of the Grant Application was published in the Federal Register on December 7, 2007. The comment period ended on February 5, 2008. No comments were received.

Type of Review: Renewal of a currently approved collection.

Agency: Corporation for National and Community Service.

Title: National Senior Service Corps Grant Application.

OMB Number: 3045-0035.

Agency Number: SF 424-NSSC.

Affected Public: Current and prospective sponsors of National Senior Service Corps Grants.

Total Respondents: 1,350.

Frequency: Annually.

Average Time Per Response: Averages 13.2 hours. Estimated at 16.5 hours for first time respondents; 15 hours for continuation sponsors; 5 hours for revisions.

Estimated Total Burden Hours: 17,820 hours.

Total Burden Cost (capital/startup): None.

Total Burden Cost (operating/maintenance): $6,497.

Description: The Corporation seeks to renew the current application without significant change. Revisions are limited to minor language changes in the Grant Application Instructions to facilitate ease of use by applicants. The modifications proposed by the Corporation for this renewal are limited to language changes to the application instructions to: (a) Remove the term “non-impact” work plan and replace with “work plan” to clarify and simplify for applicants; and (b) update the “Required Documents” list to specify that applicants send the 990 Financial Form in the event that the organization does not meet the threshold for an A-133 audit.

The Senior Corps Grant Application is completed by applicant organizations interested in sponsoring a Senior Corps project. The application is completed electronically using the Corporation's Web-based grants management system, eGrants (http://www.nationalservice.gov/egrants/index.asp).

Dated: March 21, 2008.
Tess Scannell,
Director, Senior Corps.

[FR Doc. E8-6279 Filed 3-26-08; 8:45 am]

BILLING CODE 6050-$$-P